DEPARTMENT OF LABOR

Employment and Training Administration

[TA-W-92,251]

Versum Materials US, LLC, a Subsidiary of Versum Materials, Inc., Including Workers Whose Unemployment Insurance (UI) Wages Were Reported Under Air Products and Chemicals, Inc., Surface Preparation and Clean (SP&C) Division, Allentown, Pennsylvania; Amended Certification Regarding Eligibility To Apply for Worker Adjustment Assistance

In accordance with Section 223 of the Trade Act of 1974, as amended (“Act”), 19 U.S.C. 2273, the Department of Labor issued a Certification of Eligibility to Apply for Worker Adjustment Assistance on October 20, 2016, applicable to workers of Versum Materials US, LLC, a subsidiary of Versum Materials, Inc., Surface Preparation and Clean (SP&C) Division, Allentown, Pennsylvania. The workers are engaged in activities related to the production of formulated chemical samples (for use in the electronic industry).

At the request of a state workforce official, the Department reviewed the certification for workers of the subject firm.

New information shows that some workers separated from employment at Versum Materials US, LLC, a subsidiary of Versum Materials, Inc., Surface Preparation and Clean (SP&C) Division, Allentown, Pennsylvania had their wages reported through a separate unemployment insurance (UI) tax account under the name Air Products and Chemicals, Inc.

The intent of the Department's certification is to include all workers of the subject firm who were adversely affected by the shift in production to a foreign country. Accordingly, the Department is amending this certification to properly reflect this matter.

The amended notice applicable to TA-W-92,251 is hereby issued as follows:

All workers of Versum Materials US, LLC, a subsidiary of Versum Materials, Inc., including workers whose unemployment insurance (UI) wages were reported under Air Products and Chemicals, Inc., Surface Preparation and Clean (SP&C) Division, Allentown, Pennsylvania, who became totally or partially separated from employment on or after September 9, 2015, through October 20, 2018, and all workers in the group threatened with total or partial separation from employment on October 20, 2016 through October 20, 2018, are eligible to apply for adjustment assistance under Chapter 2 of Title II of the Trade Act of 1974, as amended.

Signed in Washington, DC, this 3rd day of November, 2016.
Del Min Amy Chen,
Certifying Officer, Office of Trade Adjustment Assistance.

[FR Doc. 2016-32014 Filed 1-4-17; 8:45 am]

BILLING CODE 4510-FN-P